DEPARTMENT OF COMMERCE

International Trade Administration

[A-427-801, A-428-801, A-475-801, A-588-804, A-412-801]

Ball Bearings and Parts Thereof from France, Germany, Italy, Japan, and the United Kingdom: Notice of Partial Rescission of Antidumping Duty Administrative Reviews

AGENCY: Import Administration, International Trade Administration, Department of Commerce.

SUMMARY: On June 29, 2007, in response to requests from interested parties, the Department of Commerce published a notice of initiation of administrative reviews of the antidumping duty orders on ball bearings (and parts thereof) from France, Germany, Italy, Japan, and the United Kingdom. The period of review is May 1, 2006, through April 30, 2007. The Department of Commerce is rescinding these reviews in part.

EFFECTIVE DATE: November 16, 2007.

FOR FURTHER INFORMATION: Richard Rimlinger, AD/CVD Enforcement, Office 5, Import Administration, International Trade Administration, U.S. Department of Commerce, 14th Street and Constitution Avenue, NW, Washington, DC 20230; telephone: (202) 482-4477.

SUPPLEMENTARY INFORMATION:

Background

On June 29, 2007, in response to requests from interested parties, the Department of Commerce (Department) published a notice of initiation of administrative reviews of the antidumping duty orders on ball bearings (and parts thereof) from France, Germany, Italy, Japan, and the United Kingdom. See Notice of Initiation of Antidumping and Countervailing Duty Administrative Reviews, 72 FR 35690 (June 29, 2007).

Subsequent to the initiation of these reviews, the requests we had received for the reviews of the following company/country combinations were withdrawn:

Requestor: SKF USA Inc.

Countries | Company | Date of Withdrawal
France, Germany, Italy, U.K. | Hauni Maschinenbau AG | August 9, 2007
France, Germany, Italy, U.K. | Hauni London Ltd. | August 9, 2007
France, Germany, Italy, U.K. | Decoufle s.a.r.l. | August 9, 2007
France, Germany, Italy, U.K. | Baltic Metalltechnik GmbH | August 9, 2007
France, Germany, Italy, U.K. | Hauni Primary GmbH | August 9, 2007
France, Germany, Italy, U.K. | Universelle Engineering U.N.I. GmbH | August 9, 2007
France, Germany, Italy, U.K. | Focke & Co./FOPAC Maschinenbau GmbH | July 11, 2007
France, Germany, Italy, U.K. | RBK Machinery Sales | July 11, 2007
France, Germany, Italy, U.K. | Molins PLC | September 4, 2007
France, Germany, Italy, U.K. | ITCM | September 4, 2007
France, Germany, Italy, U.K. | Molins Tobacco Machinery Ltd. | September 4, 2007
France, Germany, Italy, U.K. | Molmac Engineering Ltd. | September 4, 2007
France, Germany, Italy, U.K. | Cerulean Packing Machinery | September 4, 2007
France, Germany, Italy, U.K. | Brasanti Macchine S.p.A. | September 26, 2007
France, Germany, Italy, U.K. | Sidel Group | September 26, 2007
France, Germany, Italy, U.K. | Sidel Blowing and Services S.A.S. | September 26, 2007
France, Germany, Italy, U.K. | Sidel Engineering and Turnkey S.A.S. | September 26, 2007
France, Germany, Italy, U.K. | Sidel Conveying S.A.S. | September 26, 2007
France, Germany, Italy, U.K. | Sidel Filling Food S.A.S. | September 26, 2007
France, Germany, Italy, U.K. | Cermex | September 26, 2007
France, Germany, Italy, U.K. | Sidel GmbH | September 26, 2007
France, Germany, Italy, U.K. | Sidel Italia | September 26, 2007
France, Germany, Italy, U.K. | Sidel UK Ltd. | September 26, 2007

Requestor: Rexnord Corporation

Country | Company | Date of Withdrawal
United Kingdom | Minebea Co., Ltd. | August 21, 2007
United Kingdom | NMB-minebea UK, Ltd. | August 21, 2007
Germany | NMB-minebea GmbH | August 21, 2007
Germany | Minebea Co. Ltd. | August 21, 2007
Japan | NMB-minebea Co., Ltd. | August 21, 2007
Japan | Minebea Co., Ltd. | August 21, 2007

Self-requestors:

Country | Company | Date of Withdrawal
Japan | Nankai Seiko Co., Ltd | August 3, 2007
Japan | NSK Ltd. | September 27, 2007
Japan | Asahi Seiko Co., Ltd. | September 26, 2007
Japan | Mori Seiki Co., Ltd. | September 28, 2007
United Kingdom | NSK Bearings Europe | September 27, 2007
France | SNR Roulements | June 26, 2007
Germany | Schaeffler KG | June 26, 2007
Italy | Schaeffler Italia S.p.A. | June 26, 2007

Rescission of Reviews

In accordance with 19 CFR 351.213(d) the Department will rescind an administrative review “if a party that requested the review withdraws the request within 90 days of the date of publication of notice of initiation of the requested review.” We received all of the above withdrawal letters, except one, within the 90-day time limit. Although Mori Seiki Co., Ltd., withdrew its request 91 days after initiation of the review, we have honored this request because we have not expended significant resources with regard to Mori Seiki Co., Ltd., and no party has objected to Mori Seiki Co., Ltd.,'s late withdrawal of its request. Because the Department received no other requests for review of these firms, the Department is rescinding the reviews in part with respect to ball bearings and parts thereof from France, Germany, Italy, Japan, and the United Kingdom by these firms. The above rescissions are pursuant to 19 CFR 351.213(d)(1). The Department will issue appropriate assessment instructions to U.S. Customs and Border Protection 15 days after publication of this notice.

Notification to Importers

This notice serves as a final reminder to importers of their responsibility under section 351.402(f) of the Department's regulations to file a certificate regarding the reimbursement of antidumping duties prior to liquidation of the relevant entries during this review period. Failure to comply with this requirement could result in the Secretary's assumption that reimbursement of antidumping duties occurred and subsequent assessment of double antidumping duties.

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

We are issuing and publishing these rescissions in accordance with section 777(i)(1) of the Tariff Act of 1930, as amended, and 19 CFR 351.213(d)(4).

Dated: November 7, 2007.
Stephen J. Claeys,
Deputy Assistant Secretary for Import Administration.

[FR Doc. E7-22343 Filed 11-15-07; 8:45 am]

BILLING CODE 3510-DS-S